DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005) is amended to reflect the establishment of the national Center for Public Health Informatics within the Coordinating Center for Health Information Service, Centers for Disease Control and Prevention.

Delete in its entirety the titles and functional statements for the Information Resources Management Office (CAJ5).

After the mission statement for the National Center for Health Statistics (CPC), insert the following:

National Center for Public Health Informatics (CPE). The National Center for Public Health Informatics (NCPHI) protects and improves the public's health through discovery, innovation, and service in health information technology and informatics. Informatics can be defined as the collection, classification, storage, retrieval, and dissemination of recorded knowledge. Public health informatics can be defined as the systematic application of information and computer science and technology to public health practice, research and learning. NCPHI assumes a leadership role for CDC in public health informatics and health information technology; ensures progress on CDC information resources, informatics, and health information systems and standards; facilitate cross-national center collaboration on informatics and health information projects; and advances and supports health information and informatics initiatives, systems, and activities across public health.

Office of the Director (CPE1). (1) Plans, directs, coordinates, implements, and manages activities of the National Center for Public Health Informatics; (2) develops and recommends policies and procedures relating to informatics resources management and support services as appropriate; (3) develops vision and strategies for informatics and its application within public health both nationally and internationally; (4) assesses CDC-wide needs for informatics support; (5) collects external input on informatics and applies the knowledge gained to agency decision-making; (6) establishes CDC-wide informatics priorities, including opportunities for redirecting resources to areas of greater impact; (7) provides for the informatics response for cross-cutting urgent and emergent needs; (8) establishes measures of success/effectiveness of CDC informatics activities and provides guidance to CDC programs on applying these measures; (9) evaluates informactics services based on internal and external input; (10) establishes and maintains internal CDC processes for decision making regarding standards, guidelines, policies that have applicability throughout CDC; (11) establishes and ensures the consistent application of the CDC enterprise architecture to align systems and platforms with CDC business objectives and goals and optimize the use of information resources; (12) establishes and ensures the consistent application of the CDC unified process to define a clear approach to deliver successful projects that comply with federal regulations and policies and CDC and Public Health Information Network standards; (13) establishes and ensures the adoption of CDC-wide standards and specifications that facilitate interoperability across sectors and provides consistency of functionality; (14) establishes relationships for public health infromatics across CDC and with state and local public health organizations and other partners on informatics methods, processes, and policies; (15) optimizes the portfolio of CDC's informatics projects and systems, identifying and facilitating opportunities for cross-coordinating center/coordinating office/national center collaboration in order to leverage investments and promote efficiency and integration; (16) promotes the integration of informatics systems (e.g. surveillance) and approaches across CDC; (17) collaborates and coordinates with all CDC organizations on informatics and health information technology issues and works closely with the Chief Information Officer on the interrelationships between informatics and information technology services, security, and information technology capital planning.

Enterprise Architecture Activity (CPE12). (1) Establishes, leads and manages the CDC enterprise information technology program; (2) ensures that the enterprise architecture and its associated standards and specifications are applied properly throughout information resources activities; (3) develops, facilitates and maintains processes and procedures for evaluating and incorporating new technology and standards in CDC's information resource environment; (4) develops and establishes CDC's information resource current, transitional, and future state technology architectures; (5) leads and staffs across-agency Enterprise Architecture Board; (6) represents CDC on Department of Health and Human Services and other federal and health architecture initiatives; (7) provides subject matter expertise on the direction and application of technology; (8) establishes and manages communities of practices for technology domains; (9) develops and maintains a certification program to ensure partners' solutions are compatible and compliant with Public Health Information Network requirements, standards, and specifications;

Science and Research Activity (PCE13). (1) Sponsors and conducts research on relevant informatics approaches and technologies; (2) manages a repository of CDC and external research on informatics and promotes the use of such research throughout CDC; (3) develops a research agenda on public health informatics as a component of the CDC-wide research agenda; (4) sponsors and conducts research on informatics (e.g. ways of protecting privacy of health records in an electronic environment, extent to which personal health records can be used for public health surveillance, expanded use of access to other non-traditional health data sources); (5) conducts applied research on relevant approaches and technologies (e.g. applying ideas for standards to systems, detection algorithms); (6) conducts systematic reviews of available research results on informatics to ensure that existing knowledge base is available for public health informatics; (7) creates opportunities for innovation (e.g. develop reward systems, establish centers of excellence, fund internal pilot projects); (8) provides guidance and oversight of the practice of science in the center; (9) oversees and provides leadership in center planning, prioritization and evaluation of center research; (10) oversees the science process in the center; (11) facilitates coordination of cross-cutting research in the center; (12) assures the quality, objectivity and integrity of the practice of science in the center; (13) assures external peer review of research; (140 guides the measurement of research impact; (15) guides translation of research to practice; (16) represents the center on the Excellence in Science Committee and other committees.

Program Management Activity (CPE14). (1) Develops vision and strategies for informatics and its application within public health (including opportunities for redirecting and identifying resources to areas of greater impact) and opportunities for cross-coordinating center/coordinating office/national center collaboration; (3) establishes measures of success/effectiveness of CDC informatics activities; (4) establishes and maintains internal CDC processes for decision making regarding metrics, standards, guidelines and policies; (5) develops and manages the CDC Unified Process program for use across the agency; (6) Facilitates and staffs informatics governance activities; (7) coordinates, manages, and optimizes the informatics portfolio of projects and systems; (8) identifies and incorporates best practices for project management within the agency; (9) establishes and manages mentoring programs and communities of practices for project management; (10) evaluates health of projects and recommends areas for improvement; (11) evaluates, designs, and deploys processes, procedures, and systems for project management and system development.

Business Services Office (CPE15). The Business Services Office (BSO) provides the coordinating office with a centralized business hub where customer service and business administration is the focal point of all business support functions. To carry out its mission, the BSO: (1) Develops and implements supplemental and/or unique-to-NCPHI administrative policies and procedures that govern business administration, procurement practices, facilities management, time and attendance reporting, travel, records management, personnel and a wide scope of other business services; (2) plans, coordinates, tracks, and provides management advice and direction of fiscal management for the organization's annual budgets and spending plans; (3) provides consultation on human capital needs and facilitates hiring and training practices as described in Office of Personnel Management and agency guidelines; (4) coordinates and manages all business services related to management, administration, and training for NCPHI; (5) coordinates all issues related to physical security, telecommunications, office space and design, procurement of equipment, furniture, and information technology services, and facilities management; (6) provides assistance to others and independently formulates, develops, negotiates, manages, and administers various NCPHI contracts, grants and cooperative agreements; (7) maintains liaison with the other offices within NCPHI, the coordinating center and other business service divisions and offices within CDC/ATSDR.

Division of Alliance Management and Consultation (CPEB). (1) Establishes and maintains relationships for public health informatics across CDC, with partners and with other health care entities; (2) provides expertise and support to CDC staff, partners, and other health care entities on informatics methods, processes, policies, and standards; (3) promotes health standards and facilitates forums across CDC, sectors, and other federal agencies to ensure efficient data exchange, interoperability of systems, and consistent implementation of methods and policy; (4) advances the development of a workforce skilled in public health informatics by developing and providing training across CDC, to partners, and to other health care entities; (5) promotes the interests of public health in the development of informatics standards (working with federal, state and local, and private sector initiatives and organizations) and initiatives (e.g. electronic health records, networks, the national health information infrastructure) to ensure the availability and utilization of expanded health data for public health purposes; (6) enhances the ability of public health officials to access and use data, information, systems, and technologies collected through traditional and non-traditional information systems, and through developing approaches to allow access while protecting privacy, confidentiality, and intellectual property rights; (7) enhances and maintains partnerships with other federal agencies, state and local public health departments, national organizations, health plans, care networks, and regional health information networks to meet public health informatics needs.

Division of Knowledge Management Services (CPEC). (1) Identifies and assesses possible informatics solutions for knowledge management and pursues appropriate direction for the solution; (2) develops, implements, and maintains, knowledge management solutions that enable efficient delivery, sharing, collaboration, management, and presentation of information and knowledge; (3) develops, implements and maintains knowledge management solutions that enable efficient delivery, sharing, collaboration, management, and presentation of information and knowledge; (4) delivers credible, timely information from scientific and health literature to CDC scientists, the public health community, and the general public by delivering reference services and access to published resources, evaluating, acquiring, organizing and making available knowledge resources, and providing training and consultation in use of science and health literature.

Division of Informatics Shared Services (CPED). (1) identifies needs and opportunities for components that can be utilized across multiple informatics solutions to ensure interoperability, integration and consistency and pursues appropriate direction for the solution (i.e., buy commercially available, re-use or build new); (2) develops, implements and maintains underlying components that enable the integration of solutions which address cross-cutting CDC or partner objectives; (3) identifies the need and opportunities for components (e.g. messaging specification, vocabulary, public health directory, secure data transfer) that could be utilized across multiple informatics solutions to ensure interoperability, integration, and consistency; (4) manages and allocates shared contractor resources (e.g. security, usability, quality assurance testing, developers, database administrators); (5) manages umbrella contracting and other common carrier mechanisms to achieve information solutions; (6) develops standards, quality assurance procedures, and guidelines for effective and efficient approaches to applications development and database management.

Division of integrated Surveillance Systems and Services (CPEE). (1) Identifies and assesses informatics solutions for integrated surveillance nationally and internationally and pursues appropriate direction for the solution; (2) develops, implements and maintains common platforms, enterprise-wide systems and applications for integrated solutions that address cross-cutting CDC or partner objectives; (3) develops, manages and supports integrated health surveillance, information and operational solutions to facilitate activities such as surveillance, lab reporting, analysis and tracking, visualization, reporting and inventory management.

Division of Emergency Preparedness and Response (CPEG). (1) Identifies and assesses informatics solutions for emergency preparedness and response and pursues appropriate direction for the solution; (2) ensures that capacity exists for responding to urgent and emergent needs; (3) develops, manages, and supports emergency preparedness and response solutions to facilitate activities such as outbreak investigation, event detection and monitoring, and response (e.g. flu vaccine finder) and ensures capacity for responding to urgent and emergent needs; (4) develops and manages early disease detection and characterization systems, situational awareness systems and related analytic activities (e.g the biointelligence center, aberration detection algorithms).

Dated: September 27, 2005.
William H. Gimson,
Chief Operating Officer, Centers for Disease Control and Prevention (CDC).

[FR Doc. 05-20060 Filed 10-5-05; 8:45 am]

BILLING CODE 4160-18-M